ARCHITECTURAL AND TRANSPORTATION BARRIERS COMPLIANCE BOARD

36 CFR Part 1192

[Docket No. ATBCB 2010-0004]

RIN 3014-AA38

Americans With Disabilities Act (ADA) Accessibility Guidelines for Transportation Vehicles

AGENCY: Architectural and Transportation Barriers Compliance Board.

ACTION: Notice of information meeting.

SUMMARY: The Architectural and Transportation Barriers Compliance Board (Access Board) is holding an information meeting in Seattle, WA on October 2, 2012 on pending rulemaking to revise and update accessibility guidelines for buses, over-the-road buses, and vans. The purpose of the meeting is to discuss issues related to the design and slope of bus ramps and the space needed at the top of ramps by individuals who use wheeled mobility devices to access the fare collection device and to turn into the main aisle.

DATES: The information meeting will be held from 2:15 p.m. to 5:30 p.m. on October 2, 2012.

ADDRESSES: The information meeting location is Washington State Convention Center, Rooms 611-612 (6th level), 800 Convention Place, Seattle, WA 98101-2350.

FOR FURTHER INFORMATION CONTACT: Scott Windley, Office of Technical and Information Services, Access Board, 1331 F Street NW., Suite 1000, Washington, DC 20004-1111. Telephone (202) 272-0025 (voice) or (202) 272-0028 (TTY). Email address windley@access-board.gov. Persons planning to attend the meeting should contact Scott Windley. More information and any updates to the meeting will be posted on the Access Board's Web site at http://www.access-board.gov/transit/.

SUPPLEMENTARY INFORMATION: In July 2010, the Architectural and Transportation Barriers Compliance Board (Access Board) issued a notice of proposed rulemaking (NPRM) to revise and update its accessibility guidelines for buses, over-the-road buses, and vans. See 75 FR 43748, July 26, 2010. The NPRM revised both the substance and structure of the guidelines. In addition to a new organization and format, the NPRM included revisions to technical requirements for ramp slopes, onboard circulation routes, wheelchair spaces, and securement systems. The NPRM also included a new requirement for automated stop and route announcements in systems with 100 or more buses and requirements specific to bus rapid transit systems. To improve accessibility, the Board proposed reducing the maximum slope of vehicle ramps. The NPRM proposed that bus ramps have slopes not steeper than 1:6 (17 percent) when deployed to the boarding and alighting areas without station platforms and to the roadway. See T303.8.1 in the NPRM. Some bus and ramp manufacturers currently provide ramps that meet this proposed provision. To minimize the ramp extension beyond the doorway, some manufacturers provide a fixed ramp slope inside the bus creating the potential for a grade break, or change in ramp slope, within a single ramp run. These designs also can reduce the level floor space at the top of the ramp.

The comment period on the NPRM ended on November 23, 2010. After the comment period ended, the Access Board received correspondence from Lane Transit District, Santa Clara Valley Transportation Authority, and Douglas Cross Transportation Consulting that raised issues regarding the usability of these ramps. The Access Board staff met with representatives from Lane Transit District and Douglas Cross Transportation Consulting to discuss these issues. The correspondence and a report on the meeting have been placed in the docket.

In August 2012, the Access Board reopened the comment period until October 31, 2012 to collect additional information on bus ramps. See 77 FR 50068, August 20, 2012. As part of this effort, the Board will hold two information meetings to discuss the usability and impacts of certain bus ramp designs that have recently been implemented.

The first information meeting will be held in Washington, DC from 9:30 a.m. to 1:30 p.m. on September 19, 2012 in the Board's conference center at 1331 F Street NW., Suite 800, Washington, DC 20004-1111. Notice of the first meeting was provided in the August 20, 2012 Federal Register notice.

The second information meeting will be held in conjunction with the American Public Transportation Association (APTA) annual meeting in Seattle, WA from 2:15 p.m. to 5:30 p.m. on October 2, 2012 at the Washington State Convention Center, Rooms 611-612 (6th level), 800 Convention Place, Seattle, WA 98101-2350. The information meeting is open to all members of the public, including those who are not registered to attend the APTA annual meeting.

The Access Board is interested in receiving information on the following questions at the information meetings:

1. Can a bus ramp with a slope of 1:6 be provided without a grade break and without compromising the available level space within the bus at the top of the ramp? How might bus kneeling affect these designs?

2. If the ramp slope were required to be uniform for the length of the ramp with no grade breaks, how would such a requirement affect bus and ramp designs, manufacturers, transit operators, and transit users, including those with disabilities?

3. How much level space, measured when the bus is sitting on a level surface, can be provided beyond the top of the ramp? How can this space be configured to permit individuals who use wheeled mobility devices to access fare collection devices and to turn into the main aisle? How does the slope of the ramp, the location of the fare collection device, and the configuration of the handrail affect the availability of this space?

4. If level space were required at the top of the ramp to permit access to fare collection devices and to facilitate turning into main aisles, how would such a requirement affect bus designs, manufacturers, transit operators, and transit users, including those with disabilities?

Bus and ramp manufacturers, transit operators, researchers, disability organizations, and interested individuals are invited to participate in the public information meetings and to submit comment. Transcripts of the meetings will be placed in the docket at http://www.regulations.gov and will be available on the Access Board's Web site at http://www.access-board.gov/transit/.

The information meetings will be accessible to persons with disabilities. An assistive listening system, computer assisted real-time transcription (CART), and sign language interpreters will be provided. Persons attending the information meetings are requested to refrain from using perfume, cologne, and other fragrances for the comfort of other participants (see www.accessboard.gov/about/policies/fragrance.htm for more information).

David M. Capozzi,
Executive Director.

[FR Doc. 2012-22554 Filed 9-12-12; 8:45 am]

BILLING CODE P